CORPORATION FOR NATIONAL AND COMMUNITY SERVICE

45 CFR Part 2553

RIN 3045-AA52

Retired and Senior Volunteer Program Amendments

AGENCY: Corporation for National and Community Service.

ACTION: Notice of proposed rule with request for comments.

SUMMARY: This proposed rule sets forth a competitive process for selecting grant recipients for the Retired and Service Volunteer Program (“RSVP”), including performance measurement requirements, as required by the Domestic Volunteer Service Act (DVSA), as amended by the Edward M. Kennedy Serve America Act (Serve America Act) of April 21, 2009.

DATES: Submit comments on or before December 27, 2010.

ADDRESSES: You may submit and read comments through the Federal government's one-stop rulemaking Web site at http://www.regulations.gov. You may also mail or deliver your comments to Amy Borgstrom, Docket Manager, Corporation for National and Community Service, 1201 New York Ave., NW., Washington, DC 20525. Members of the public may review copies of all communications received on this rulemaking at the Corporation's Washington, DC headquarters.

FOR FURTHER INFORMATION CONTACT: Amy Borgstrom, Docket Manager, Corporation for National and Community Service, (202) 606-6930, TDD (202) 606-3472. Persons with visual impairments may request this document in an alternate format.

SUPPLEMENTARY INFORMATION:

I. Invitation to Comment

We invite you to submit comments about these proposed regulations. To ensure that your comments have maximum value in helping us develop the final regulations, we urge you to identify clearly the specific section or sections of the proposed regulations that each comment addresses and to arrange your comments in the same order as the proposed regulations. During and after the comment period, you may inspect all public comments about these proposed regulations on http://www.regulations.gov or by contacting the Docket Manager listed in this notice.

Assistance to Individuals With Disabilities in Reviewing the Rulemaking Record

On request, we will supply an appropriate aid, such as a reader or print magnifier, to an individual with a disability who needs assistance to review the comments or other documents in the public rulemaking record for these proposed regulations. If you want to schedule an appointment for this type of aid, please contact Amy Borgstrom, Docket Manager, Corporation for National and Community Service, aborgstrom@cns.gov, TDD (202) 606-3472.

II. Background

On April 21, 2009, President Obama signed into law the Edward M. Kennedy Serve America Act (Serve America Act) (Pub. L. 111-13). The Serve America Act reauthorizes and expands national service programs administered by the Corporation for National and Community Service (“the Corporation”) by amending the National and Community Service Act of 1990 (NCSA) and the Domestic Volunteer Service Act of 1973 (DVSA).

The Serve America Act amended the DVSA by requiring the Corporation to develop a competitive process for selecting grant recipients for the Retired and Senior Volunteer Program (“RSVP”) beginning in fiscal year 2013. Section 201(e) of the DVSA requires that the Corporation promulgate regulations within 18 months of the enactment of the Serve America Act establishing the competitive grantmaking process for the Retired and Senior Volunteer Program. The competitive process, as directed by statute, will include the use of peer review panels with expertise in senior service and aging, site visits as appropriate, and evaluations of existing grantees. The amended statute requires that, beginning in fiscal year 2013, RSVP grants be awarded for a period of 3 years, with an option for renewal of 3 years if the grantee meets the performances measures established in its grant award, as well as complying with the terms and conditions of the grant.

III. Proposed Rule

The current competitive process for selecting RSVP grantees only occurs when there is new money above the appropriated base funding for RSVP grants. The future competitive process for selecting RSVP grantees will include the same elements specified in the amended DVSA that have been used for previous competitive processes. The elements specified in the amended DVSA are discussed below.

A. Peer review panels [DVSA sec. 201(e)(2)(B)(i); 45 CFR 2553.71(b)]: As of 2013, RSVP grant applications will be reviewed by blended peer review panels that will include members with specialized expertise in senior service and aging, as well as Corporation staff, who will offer their expert opinions concerning each application. The use of blended peer review panels is well established at the Corporation and is currently part of the process of selecting grantees for other programs such as AmeriCorps and Learn and Serve America. The Corporation also has considerable experience in using outside reviewers with expertise in senior service and aging on selection panels for Senior Corps grants, including RSVP. The Corporation's existing processes for announcing peer review opportunities, registering potential reviewers, selecting reviewers for particular competitions, managing review panels, and considering peer review opinions in making the final selection of grantees will be adapted to meet the requirements for RSVP grant competitions.

B. Site inspections [DVSA sec. 201(e)(2)(B)(ii); 45 CFR 2553.71(b)]: As appropriate, on-going RSVP grant projects or proposed project sites may be visited by Corporation representatives as part of the competitive selection process. While such site visits would normally not be needed, circumstances could arise during the grantee selection process where on-site observations or meetings might be helpful, for example, in clarifying aspects of an application or validating the capacity of an organization to administer a Federal grant.

C. Performance Measures, Outcomes, and Other Criteria [DVSA sections 201(e)(2)(B)(v) and 201(g); 45 CFR 2553.12(l) and Subpart J]: As a part of the competitive process, the Corporation will develop performance measures, outcomes, and other criteria that will be used in the evaluation of applicants. The performance measures will be established in the Notification of Funding Availability and may be different than those incorporated in current grants. These performance measures, outcomes, and criteria will reflect the different needs of rural and urban communities. These performance measures, outcomes, and criteria will be used in conducting the competitive process and in developing assessment reports as described in paragraph D, below. Performance measures will be published in the Notification of Funding Availability.

Pursuant to section 201 (g)(2)(A) & (B) of the Serve America Act, prior to Fiscal Year 2014, that is, the first year after initiation of the competitive process, the performance measures, outcomes, and other criteria established for the process may not be updated or modified, except when the Corporation determines that a performance measure, outcome, or criterion has become operationally problematic. In such cases, after consulting with RSVP project directors, sponsor executives, and others as appropriate, and notifying the authorizing committees, the Corporation may eliminate that performance measure, outcome, or criterion, or modify it.

D. Assessments of existing RSVP projects [DVSA sections 201(f) and (g); 45 CFR 2553(f)]: All existing RSVP grants will receive a report from the Corporation in a standardized format that assesses program strengths and weaknesses in a way that can assist the grantee with program improvement. The Corporation has set up a mechanism for consulting with RSVP project directors during the development and implementation of the assessment process. This report will guide the Corporation's training and technical assistance for the project. The standardized report will, in addition to assessing the program's strengths and weaknesses, include—

• An assessment of the extent to which the grantee meets or exceeds the performance measures, outcomes, and other criteria established for its grant;

• An assessment of whether the program has adequately addressed the needs of the population and community it serves;

• An assessment of the project's efforts to collaborate with other community organizations, units of government, and entities providing services to seniors;

• An assessment of the project's compliance with requirements for appropriate use of Federal funds, based on use of a protocol for fiscal management;

• An assessment of whether the project is in conformity with eligibility, outreach, enrollment, and other RSVP programmatic requirements.

To the maximum extent practicable, the report for each project will take into account input received from individuals who are knowledgeable about RSVP, including current or former employees of the Corporation and representatives of the communities served by RSVP volunteers.

To the maximum extent practicable, the process of assessing existing RSVP grants will begin in Fiscal Year 2010 and run through Fiscal Year 2012, with the objective of completing the assessment and resulting training and technical assistance prior to conducting the initial cycle of grant competitions in Fiscal Year 2013.

E. Maintenance of volunteers and geographic service areas [DVSA sec. 201(e)(2)(B)(iv)]: The Corporation will ensure that (a) grants awarded as a result of the competitive selection process beginning in Fiscal Year 2013 are for at least the same number of volunteers annually as were supported for the service area during the previous grant cycle and (b) maintain a similar program distribution as was maintained during the previous grant cycle. In addition, the Corporation will minimize any disruption to RSVP volunteers that might result from implementing the competitive process of grantee selection.

F. Program Termination [DVSA sec. 201(g)(3); 45 CFR 2553.31]: Until 2013, the Corporation will continue to initiate termination or denial of an application for refunding in the event that a grantee does not meet one or more of the performance measures, outcomes, and other criteria established as described above. Any such termination or denial of refunding will follow the notification and due process currently followed in such cases, in accordance with Section 412 of the DVSA, as implemented by 45 CFR part 1206 Grants and Contracts—Suspension and Termination and Denial of Application for Refunding, except that after initiation of competition in FY 2013, the provisions governing denial of refunding will not apply to a grant that has been competed in accordance with 45 CFR 2553.71, and where the grantee has also completed its optional three-year renewal term.

G. Technical Assistance [DVSA sec. 201(h) and (j); 45 CFR 2553.71(f)]: The Corporation will develop procedures for providing technical assistance, including regular monitoring visits, to assist grantees in meeting the established performance measures, outcomes, and criteria. One component of such technical assistance, which was launched in October 2009, is an online resource guide available at http://www.nationalserviceresources.org/rsvp-online-resource-guide. The Corporation updates this online guide from time to time with examples of high-performing RSVP projects and other information.

H. Grant Extension for Purpose of New Competition [DVSA sec. 201(i); 2553.71(e)]: To minimize disruption to volunteers and services, if a grantee fails to meet one or more of the established performance measures, outcomes, and other criteria, the Corporation will continue to fund the current grantee for up to 12 months if the competition for a replacement sponsor has not resulted in a replacement sponsor. During those 12 months, the Corporation will conduct a new competition to serve the geographic area served by the current grantee and reach out to other potential sponsors. The current grantee will be eligible for the new competition and, during the 12-month period, the Corporation may continue to provide training and technical assistance in meeting established performance measures.

All provisions of part 2553 not modified by the amendments described below will remain in effect, including the provision in § 2553.72 (a) that a “Corporation grant may be awarded to fund up to 90 percent of the total project cost in the first year, 80 percent in the second year, and 70 percent in the third and succeeding years.” Thus, the Corporation will continue to require that a current grantee applying for a new grant must contribute from non-Corporation funds at least 30 percent of the total project cost. A new applicant, on the other hand, will be required to contribute 10 percent in the first year of the grant, 20 percent in the second year, and 30 percent in the third and succeeding years.

IV. Effective Dates

The Corporation intends to make any final rule based on this proposed rule effective on the date that the final rule is published in the Federal Register.

V. Non-Regulatory Issues

Executive Order 12866

Under Executive Order 12866, the Chief Executive Officer must determine whether this regulatory action is “significant” and therefore subject to the requirements of the Executive Order and review by OMB. Section 3(f) of Executive Order 12866 defines a “significant regulatory action” as an action likely to result in a rule that may (1) have an annual effect on the economy of $100 million or more, or adversely affect a sector of the economy, productivity, competition, jobs, the environment, public health or safety, or State, local or tribal governments, or communities in a material way (also referred to as an “economically significant” rule); (2) create serious inconsistency or otherwise interfere with an action taken or planned by another agency; (3) materially alter the budgetary impacts of entitlement grants, user fees, or loan programs or the rights and obligations of recipients thereof; or (4) create novel legal or policy issues arising out of legal mandates, the President's priorities, or the principles set forth in the Executive Order. The Chief Executive Officer has determined that this regulatory action, while not economically significant, is significant because Congress is requiring re-competition for the RSVP program for the first time.

Regulatory Flexibility Act

The Corporation has determined that the regulatory action will not result in (1) an annual effect on the economy of $100 million or more; (2) a major increase in costs or prices for consumers, individual industries, Federal, State, or local government agencies, or geographic regions; or (3) significant adverse effects on competition, employment, investment, productivity, innovation, or on the ability of United States-based enterprises to compete with foreign-based enterprises in domestic and export markets. Therefore, the Corporation has not performed the initial regulatory flexibility analysis that is required under the Regulatory Flexibility Act (5 U.S.C. 6.)

Paperwork Reduction Act of 1995

Under the procedures established by the Paperwork Reduction Act of 1995, a person is not required to respond to a collection of information by a Federal agency unless the collection displays a valid OMB control number. This rulemaking would not establish any new information collection requirements.

List of Subjects in 45 CFR Part 2553

Aged, Grant programs—social programs, Volunteers.

For the reasons set forth in the preamble, the Corporation for National and Community Service proposes to amend 45 CFR part 2553 as follows:

PART 2553—THE RETIRED AND SENIOR VOLUNTEER PROGRAM

1. The authority citation for part 2553 continues to read as follows:

Authority: 42 U.S.C. 4950 et seq.

2. Amend § 2553.12 by removing the alphabetical paragraph designations and adding a definition for “performance measures” in alphabetical order to read as follows:

§ 2553.12 Definitions.

* * * * *

Performance measures. Indicators intended to help determine the impact of an RSVP project on the community, including the volunteers. Performance measures currently include, but are not limited to, the following performance indicators:

(1) Output indicator. The amount or units of service that RSVP volunteers have completed, or the number of people the project has served. An output indicator does not provide information on benefits or other changes in the lives of the volunteers or the people served.

(2) Outcome indicator. Specifies a change that has occurred in the lives of the people served or the volunteers. It is an observable and measurable indication of whether or not a project is making progress toward its outcome target.

* * * * *

3. Amend § 2553.23 by adding new paragraphs (i) and (j) to read as follows:

§ 2553.23 What are a sponsor's program responsibilities?

* * * * *

(i) Minimize any disruption to RSVP volunteers when one sponsor is replaced by another as a result of relinquishment, denial of refunding, or recompetition of a grant.

(j) Make every effort to meet such performance measures as may be established for the RSVP project by mutual agreement.

4. Amend § 2553.31 by revising paragraph (c) to read as follows:

§ 2553.31 What are the rules on suspension, termination and denial of refunding of grants?

* * * * *

(c) Beginning in FY 2013, the procedures for suspension and termination of RSVP grants, which are specified in 45 CFR part 1206, shall continue to apply, but the procedures in part 1206 applicable to denial of refunding of an RSVP grantee shall not apply to any grant awarded through the competitive process described in § 2553.71 of this part.

5. Revise § 2553.71 to read as follows:

§ 2553.71 What is the process for application and award of a grant?

As funds become available, the Corporation solicits applications for RSVP grants from eligible organizations through a competitive process.

(a) What are the application requirements for an RSVP grant? An applicant must:

(1) Submit required information determined by the Corporation.

(2) Demonstrate compliance with any applicable requirements specified in the Notice of Funding Availability or Notice of Funding Opportunity.

(b) What process does the Corporation use to select new RSVP grantees? (1) The Corporation reviews and determines the merits of an application by its responsiveness to published guidelines and to the overall purpose and objectives of the program. In conducting its review, the Corporation considers the input and opinions of those serving on a peer review panel, including members with expertise in senior service and aging, and may conduct inspections at the applicant's site, as appropriate.

(2) The selection process includes:

(i) Determining whether an application complies with the application requirements, such as deadlines, eligibility, and programmatic requirements, including performance measurement requirements;

(ii) Applying published selection criteria, as stated in the applicable Notice of Funding Availability or Notice of Funding Opportunity, to assess the quality of the application;

(iii) Applying any applicable priorities or preferences, as stated in the applicable Notice of Funding Availability or Notice of Funding Opportunity;

(iv) Ensuring innovation and geographic, demographic, and programmatic diversity across the Corporation's RSVP grantee portfolio.

(v) Identifying the applications that most completely respond to the published guidelines and offer the highest probability of successfully carrying out the overall purpose and objectives of the program.

(c) How is a grant awarded? (1) Subject to the availability of funds, the award will be documented by a Notice of Grant Award (NGA).

(2) The Corporation and the sponsoring organization are parties to the NGA. The NGA will document the sponsor's commitment to fulfill specific programmatic objectives and financial obligations. It will document the extent of the Corporation's obligation to provide assistance to the sponsor.

(d) What happens if the Corporation rejects an application? The Corporation will return to the applicant an application that is not approved for funding, informing the applicant of the Corporation's decision.

(e) For what period of time does the Corporation award a grant? The Corporation awards a RSVP grant for a specified period that is 3 years in duration with an option for a grant renewal of 3 years, if the grantee's performance and compliance with grant terms and conditions are satisfactory. The Corporation will use the Denial of Refunding procedures set forth in 45 CFR part 1206 to deny funding to a grantee when the Corporation determines that the grant should not be renewed for an additional 3 years.

(f) What assistance in preparation for competitive award of all RSVP grants will the Corporation provide to sponsors who have previously received a grant and whose grants are expiring in fiscal year 2011, 2012, or 2013? (1) For each grant expiring in fiscal years 2011, 2012, or 2013, the Corporation will evaluate the grant, to the maximum extent practicable, in fiscal years 2010, 2011, and 2012, respectively.

(2) The evaluation will give particular attention to the different needs of rural and urban projects, including those serving Native American communities, and will evaluate the extent to which the sponsor meets or exceeds performance measures, outcomes, and other criteria established by the Corporation.

(3) To the maximum extent practicable, the Corporation will ensure that each evaluation is conducted by a review team made up of trained individuals who are knowledgeable about RSVP, including current or former employees of the Corporation and representatives of communities served by RSVP volunteers, who will provide their input and opinions concerning each grant.

(4) The Corporation will use the evaluation findings as the basis for providing recommendations for program improvement, and for the provision of training and technical assistance.

(5) The evaluation will assess:

(i) The project's strengths and areas in need of improvement;

(ii) Whether the project has adequately addressed population and community-wide needs;

(iii) The efforts of the project to collaborate with other community-based organizations, units of government, and entities providing services to seniors, taking into account barriers to such collaboration that such program may encounter;

(iv) The project's compliance with the program requirements for the appropriate use of Federal funds as embodied in a a protocol for fiscal management;

(v) To what extent the project is in conformity with the eligibility, outreach, enrollment, and other requirements for RSVP projects; and

(vi) The extent to which the project is achieving other measures of performance developed by the Corporation, in consultation with the review team.

6. Add a new subpart J to read as follows:

Subpart J—Performance Measurement
Sec.
2553.100 What is the purpose of this subpart?
2553.101 What is the purpose of performance measurement?
2553.102 What performance measurement information must be part of an application for funding under RSVP?
2553.103 Who develops the performance measures?
2553.104 What performance measures must be submitted to the Corporation and how are these submitted?
2553.105 How are performance measures approved and documented?
2553.106 How does a sponsor report performance measures to the Corporation?
2553.107 What must a sponsor do if it cannot meet its performance measures?
2553.108 When may a sponsor change a project's performance measures?
2553.109 What happens if a sponsor fails to meet the performance measures included in the Notice of Grant Award (NGA)?

Subpart J—Performance Measurement

§ 2553.100 What is the purpose of this subpart?

This subpart sets forth the minimum performance measurement requirements for Corporation-funded Retired and Senior Volunteer Program (RSVP) projects. This subpart does not apply to Non-Corporation-funded RSVP projects as discussed in Subpart K.

§ 2553.101 What is the purpose of performance measurement?

The purpose of performance measurement is to strengthen the RSVP project and foster continuous improvement. Reporting on performance measures is used by the Corporation as part of assessing the impact of the project on the community and on the accomplishment of the objectives established in the Corporation's Strategic Plan. In addition, as part of the competitive process, performance measures are used to assess how an applicant for a grant approaches the design of volunteer activities and the measurement of their impact on community needs.

§ 2553.102 What performance measurement information must be part of an application for funding under RSVP?

An application to the Corporation for funding under RSVP must contain:

(a) Performance measures.

(b) Estimated performance data for the project years covered by the application.

(c) Actual performance data, where available, for the preceding completed project year.

§ 2553.103 Who develops the performance measures?

(a) An applicant is responsible for developing its own project-specific performance measures.

(b) In addition, the Corporation may establish performance measures that will apply to all Corporation-sponsored RSVP projects, which sponsors will be responsible for meeting.

§ 2553.104 What performance measures must be submitted to the Corporation and how are these submitted?

(a) An applicant for Corporation funds is required to submit at least one of each of the following types of performance measures as part of their application. The Corporation will provide standard forms.

(1) Output indicators.

(2) Outcome indicators.

(b) An applicant must also submit any uniform performance measures the Corporation may establish for all applications.

(c) The Corporation may specify additional requirements relating to performance measures on an annual basis in program guidance and related materials.

§ 2553.105 How are performance measures approved and documented?

(a) The Corporation reviews and approves performance measures for all applicants that apply for funding from the Corporation.

(b) An applicant must follow Corporation-provided guidance and formats provided when submitting performance measures.

(c) Final performance measures, as negotiated between the applicant and the Corporation, will be documented in the Notice of Grant Award (NGA).

§ 2553.106 How does a sponsor report performance measures to the Corporation?

(a) The Corporation will set specific reporting requirements, including frequency and deadlines, concerning performance measures established in the grant award. A sponsor is required to report on the actual results that occurred when implementing the grant and to regularly measure the project's performance.

(b) At a minimum, a sponsor is required to report on outputs at the end of year one and outputs and outcomes at the end of years two and three. A sponsor may choose to exceed these minimum requirements and report results earlier.

§ 2553.107 What must a sponsor do if it cannot meet its performance measures?

Whenever a sponsor finds it is not on track to meet its performance measures, it must develop a plan to get back on track or submit a request to the Corporation to amend its performance measures. The request must include all of the following:

(a) Why the project is not on track to meet its performance requirements;

(b) How the project has been tracking performance measures;

(c) Evidence of corrective steps taken;

(d) Any new proposed performance measures; and

(e) A plan to ensure that the project will meet the new proposed measure(s).

§ 2553.108 When may a sponsor change a project's performance measures?

Performance measures may be changed only if the Corporation approves the sponsor's request to do so.

§ 2553.109 What happens if a sponsor fails to meet the performance measures included in the Notice of Grant Award (NGA)?

If a sponsor fails to meet a target performance measure established in the NGA, the Corporation will negotiate a period of no more than one year for meeting the performance measure. At that point, if the sponsor still fails to meet the performance measure, the Corporation may take one or more of the following actions:

(a) Reduce the amount of the grant;

(b) Suspend, terminate, or deny refunding of the grant, in accordance with the provisions of § 2553.31 of this part;

(c) Take this information into account in assessing any application from the organization for a new grant or augmentation of an existing grant under any program administered by the Corporation;

(d) Amend the terms of any Corporation grant to the organization; or

(e) Take other actions that the Corporation deems appropriate.

Dated: October 20, 2010.
Wilsie Y. Minor,
Acting General Counsel.

[FR Doc. 2010-26960 Filed 10-25-10; 8:45 am]

BILLING CODE 6050-28-P